DEPARTMENT OF THE INTERIOR

Fish and Wildlife Service

[FWS-R8-ES-2023-N037; FXES11130800000-234-FF08E00000]

Endangered and Threatened Wildlife and Plants; Initiation of 5-Year Status Reviews of 47 Species in California, Nevada, and Oregon

AGENCY: Fish and Wildlife Service, Interior.

ACTION: Notice of initiation of reviews; request for information.

SUMMARY: We, the U.S. Fish and Wildlife Service, are initiating 5-year status reviews of 47 species in California, Nevada, and Oregon under the Endangered Species Act. A 5-year review is based on the best scientific and commercial data available at the time of the review; therefore, we are requesting submission of any new information on these species that has become available since the last reviews.

DATES: To ensure consideration in our reviews, we are requesting submission of new information no later than October 16, 2023. However, we will continue to accept new information about any species at any time.

ADDRESSES: For how and where to send information and comments, see Request for New Information.

FOR FURTHER INFORMATION CONTACT: For general information, contact Ernest Chen, by email at ernest_chen@fws.gov or via phone at 530-320-1300. For whom to contact for species-specific information, see Request for New Information. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Why Do We Conduct 5-Year Reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2)(A) of the Act requires us to review each listed species' status at least once every 5 years. For additional information about 5-year reviews, go to https://www.fws.gov/project/five-year-status-reviews.

What Information Do We Consider in Our Review?

A 5-year review considers all new information available at the time of the review. In conducting these reviews, we consider the best scientific and commercial data that have become available since the listing determination or most recent status review, such as:

A. Species biology, including but not limited to population trends, distribution, abundance, demographics, and genetics;

B. Habitat conditions, including but not limited to amount, distribution, and suitability;

C. Conservation measures that have been implemented to benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year review and will also be useful in evaluating the ongoing recovery programs for the species.

Which Species Are Under Review?

This notice announces our active review of the species listed in the table below.

Plants: Common name | Plants: Scientific name | Plants: Status | Plants: States where species is known to occur | Plants: Final listing rule (Federal Register citation and publication date) | Plants: Lead fish and wildlife office
Lily, western | Lilium occidentale | E | CA and OR | 59 FR 42171; 8/17/1994 | Arcata.
Penny-cress, Kneeland Prairie | Thlaspi californicum | E | CA | 65 FR 6332; 2/9/2000 | Arcata.
Spineflower, Howell's | Chorizanthe howellii | E | CA | 57 FR 27848; 6/22/1992 | Arcata.
Bluegrass, San Bernardino | Poa atropurpurea | E | CA | 63 FR 49006; 10/14/1998 | Carlsbad.
Dune grass, Eureka | Swallenia alexandrae | T | CA | 43 FR 17910; 4/26/1978 | Carlsbad.
Milk-vetch, Peirson's | Astragalus magdalenae var. peirsonii | T | CA | 63 FR 53596; 10/6/1998 | Carlsbad.
Rockcress, Santa Cruz Island | Sibara filifolia | E | CA | 62 FR 42692; 8/8/1997 | Carlsbad.
Milk-vetch, Applegate's | Astragalus applegatei | E | OR | 58 FR 40547; 7/28/1993 | Klamath Falls.
Bedstraw, El Dorado | Galium californicum ssp. sierrae | E | CA | 61 FR 54346; 10/18/1996 | Sacramento.
Bird's-beak, Pennell's | Cordylanthus tenuis ssp. capillaris | E | CA | 60 FR 6671; 2/3/1995 | Sacramento.
Butterweed, Layne's | Senecio layneae | T | CA | 61 FR 54346; 10/18/1996 | Sacramento.
Ceanothus, Pine Hill | Ceanothus roderickii | E | CA | 61 FR 54346; 10/18/1996 | Sacramento.
Checker-mallow, Kenwood Marsh | Sidalcea oregana ssp. valida | E | CA | 62 FR 54791; 10/22/1997 | Sacramento.
Clarkia, Vine Hill | Clarkia imbricata | E | CA | 62 FR 54791; 10/22/1997 | Sacramento.
Flannelbush, Pine Hill | Fremontodendron californicum ssp. decumbens | E | CA | 61 FR 54346; 10/18/1996 | Sacramento.
Goldfields, Burke's | Lasthenia burkei | E | CA | 56 FR 61173; 12/2/1991 | Sacramento.
Larkspur, Baker's | Delphinium bakeri | E | CA | 65 FR 4156; 1/26/2000 | Sacramento.
Larkspur, yellow | Delphinium luteum | E | CA | 65 FR 4156; 1/26/2000 | Sacramento.
Lily, Pitkin Marsh | Lilium pardalinum ssp. pitkinense | E | CA | 62 FR 54791; 10/22/1997 | Sacramento.
Meadowfoam, Sebastopol | Limnanthes vinculans | E | CA | 56 FR 61173; 12/2/1991 | Sacramento.
Milk-vetch, Clara Hunt's | Astragalus clarianus | E | CA | 62 FR 54791; 10/22/1997 | Sacramento.
Morning-glory, Stebbins' | Calystegia stebbinsii | E | CA | 61 FR 54346; 10/18/1996 | Sacramento.
Sunshine, Sonoma | Blennosperma bakeri | E | CA | 56 FR 61173; 12/2/1991 | Sacramento.
Lupine, Nipomo Mesa | Lupinus nipomensis | E | CA | 65 FR 14888; 3/20/2000 | Ventura.
Manzanita, Santa Rosa Island | Arctostaphylos confertiflora | E | CA | 62 FR 40954; 7/31/1997 | Ventura.
Mountainbalm, Indian Knob | Eriodictyon altissimum | E | CA | 59 FR 64613; 12/15/1994 | Ventura.
Pentachaeta, Lyon's | Pentachaeta lyonii | E | CA | 62 FR 4172; 1/29/1997 | Ventura.
Polygonum, Scotts Valley | Polygonum hickmanii | E | CA | 68 FR 16970; 4/8/2003 | Ventura.
Rush-rose, island | Helianthemum greenei | T | CA | 62 FR 40954; 7/31/1997 | Ventura.
Spineflower, Monterey | Chorizanthe pungens var. pungens | T | CA | 59 FR 5499; 2/4/1994 | Ventura.
Spineflower, Scotts Valley | Chorizanthe robusta var. hartwegii | E | CA | 59 FR 5499; 2/4/1994 | Ventura.
Thistle, La Graciosa | Cirsium loncholepis | E | CA | 65 FR 14888; 3/20/2000 | Ventura.
Phlox, Yreka | Phlox hirsuta | E | CA | 65 FR 5268; 2/3/2000 | Yreka.
Animals
Mountain beaver, Point Arena | Aplodontia rufa nigra | E | CA | 56 FR 64716; 12/12/1991 | Arcata.
Plover, western snowy | Charadrius nivosus nivosus | T | CA, OR, and WA | 58 FR 12864; 3/5/1993 | Arcata.
Beetle, Casey's June | Dinacoma caseyi | E | CA | 76 FR 58954; 9/22/2011 | Carlsbad.
Frog, mountain yellow-legged | Rana muscosa | E | CA | 67 FR 44382; 7/2/2002 | Carlsbad.
Gnatcatcher, coastal California | Polioptila californica californica | T | CA | 58 FR 16742; 3/30/1993 | Carlsbad.
Kangaroo rat, San Bernardino Merriam's | Dipodomys merriami parvus | E | CA | 63 FR 3877; 1/27/1998 | Carlsbad.
Skipper, Laguna Mountains | Pyrgus ruralis lagunae | E | CA | 62 FR 2313; 1/16/1997 | Carlsbad.
Sucker, Lost River | Deltistes luxatus | E | CA and OR | 53 FR 27130; 7/18/1988 | Klamath Falls.
Sucker, shortnose | Chasmistes brevirostris | E | CA and OR | 53 FR 27130; 7/18/1988 | Klamath Falls.
Sheep, Sierra Nevada bighorn | Ovis canadensis sierrae | E | CA | 64 FR 19300; 4/20/1999 | Reno.
Delta smelt | Hypomesus transpacificus | T | CA | 58 FR 12854; 3/5/1993 | San Francisco Bay-Delta.
Poolfish, Pahrump | Empetrichthys latos | E | NV | 32 FR 4001; 3/11/1967 | Southern Nevada.
Tiger beetle, Ohlone | Cicindela ohlone | E | CA | 66 FR 50340; 10/3/2001 | Ventura.
Otter, southern sea | Enhydra lutris nereis | T | CA | 42 FR 2965; 1/14/1977 | Ventura.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

To get more information on a species, submit information on a species, or review information we receive, please use the contact information for the lead Fish and Wildlife Office for the species specified in the table above.

• Arcata Fish and Wildlife Office: Vicky Ryan, 707-825-5123 (phone); vicky_ryan@fws.gov (email); or 1655 Heindon Road, Arcata, CA 95521 (U.S. mail).

• Carlsbad Fish and Wildlife Office: Bradd Bridges, 760-431-9440 (phone); bradd_bridges@fws.gov (email); or 2177 Salk Avenue, Suite 250, Carlsbad, CA 92008 (U.S. mail).

• Klamath Falls Fish and Wildlife Office: Rodger Gwiazdowski, 541-591-9905 (phone); rodger_gwiazdowski@fws.gov (email); or 1936 California Avenue, Klamath Falls, OR 97601 (U.S. mail).

• Reno Fish and Wildlife Office: Justin Barrett, 775-861-6338 (phone); RFWOmail@fws.gov (email); or 1340 Financial Boulevard, Suite 234, Reno, NV 89502 (U.S. mail).

• Sacramento Fish and Wildlife Office: Amber Aguilera, 916-414-6626 (phone); fw8sfwocomments@fws.gov (email); or 2800 Cottage Way, Suite W2605, Sacramento, CA 95825 (U.S. mail).

• San Francisco Bay-Delta Fish and Wildlife Office: Steven Detwiler, 916-930-2640 (phone); steven_detwiler@fws.gov (email); or 650 Capitol Mall, Suite 8-300, Sacramento, CA 95814 (U.S. mail).

• Southern Nevada Fish and Wildlife Office: Kellie Berry, 702-515-5459 (phone); kellie_berry@fws.gov (email); or 4701 North Torrey Pines Drive, Las Vegas, NV 89130 (U.S. mail).

• Ventura Fish and Wildlife Office: Samantha Lantz, 805-677-3314 (phone); samantha_lantz@fws.gov (email); or 2493 Portola Road, Suite B, Ventura CA 93003 (U.S. mail).

• Yreka Fish and Wildlife Office: Nadine Kanim, 530-841-3108 (phone); nadine_kanim@fws.gov (email); or 1829 S. Oregon Street, Yreka, CA 96097 (U.S. mail).

Public Availability of Comments

Before including your address, phone number, email address, or other personal identifying information in your comment, you should be aware that your entire comment—including your personal identifying information—may be made publicly available at any time. While you can ask us in your comment to withhold your personal identifying information from public review, we cannot guarantee that we will be able to do so.

Authority

This document is published under the authority of the Endangered Species Act of 1973, as amended (16 U.S.C. 1531 et seq.).

Jill Russi,
Deputy Regional Director, California Great Basin Region, U.S. Fish and Wildlife Service.

[FR Doc. 2023-17728 Filed 8-16-23; 8:45 am]

BILLING CODE 4333-15-P